DEPARTMENT OF HOMELAND SECURITY

Coast Guard

33 CFR Part 100

[Docket No. USCG-2013-0006]

Special Local Regulation; Southern California Annual Marine Events for the San Diego Captain of the Port Zone

AGENCY: Coast Guard, DHS.

ACTION: Notice of enforcement of regulation.

SUMMARY: The Coast Guard will enforce the 2013 San Diego Crew Classic Special Local Regulation located in the regulated area encompasses that portion of Mission Bay, San Diego, California bounded by Enchanted Cove, Fiesta Island, Pacific Passage and DeAnza Point, from 7 a.m. to 7 p.m. on April 6, 2013 and 7 a.m. to 7 p.m. on April 7, 2013. This action is necessary to provide to provide for the safety of the participants, crew, spectators, sponsor vessels of the event, and general users of the waterway. During the enforcement period, no spectators shall anchor, block, loiter in, or impede the transit of participants or official patrol vessels in the regulated area during the effective dates and times, unless cleared for such entry by Coast Guard Patrol Commander or through an official supporting vessel.

DATES: The regulations in 33 CFR 100.1101 will be enforced from 7 a.m. to 7 p.m. on April 6, 2013 and 7 a.m. to 7 p.m. on April 7, 2013.

FOR FURTHER INFORMATION CONTACT: If you have questions on this notice, call or email Petty Officer Bryan Gollogly, Waterways Management, U.S. Coast Guard Sector San Diego, CA; telephone 619-278-7656, email D11-PF-MarineEventsSanDiego@uscg.mil.

SUPPLEMENTARY INFORMATION: The Coast Guard will enforce the Special Local Regulation for the 2013 San Diego Crew Classic in 33 CFR 100.1101 from 7 a.m. to 7 p.m. on April 6, 2013 and from 7 a.m. to 7 p.m. on April 7, 2013.

Under provisions of 33 CFR 100.1101, a vessel may not enter the regulated area, unless it receives permission from the COTP. Spectator vessels may safely transit outside the regulated area but may not anchor, block, loiter, or impede the transit of participants or official patrol vessels. The Coast Guard may be assisted by other Federal, State, or Local law enforcement agencies in enforcing this regulation.

This notice is issued under authority of 33 CFR 100.1101 and 5 U.S.C. 552(a). In addition to this notice in the Federal Register, the Coast Guard will provide the maritime community with extensive advance notification of this enforcement period via the Local Notice to Mariners. If the Captain of the Port or his designated representative determines that the regulated area need not be enforced for the full duration stated on this notice, he or she may use a Broadcast Notice to Mariners to grant general permission to enter the regulated area.

Dated: March 6, 2013.
S.M. Mahoney,
Captain, US Coast Guard, Captain of the Port San Diego.

[FR Doc. 2013-06587 Filed 3-21-13; 8:45 am]

BILLING CODE 9110-04-P